FEDERAL TRADE COMMISSION

16 CFR Part 305

[RIN 3084-AB03]

Appliance Labeling Rule

AGENCY: Federal Trade Commission.

ACTION: Correcting amendments.

SUMMARY: The Federal Trade Commission (“Commission”) is issuing technical corrections to the Appliance Labeling Rule (16 CFR Part 305). This document republishes the text of § 305.20(f) concerning catalog requirements not published in the CFR and corrects text in Appendix D4 concerning labels for instantaneous water heaters.

DATES: Effective Date: July 19, 2011.

FOR FURTHER INFORMATION CONTACT: Hampton Newsome, Attorney, Division of Enforcement, Bureau of Consumer Protection, Federal Trade Commission, Washington, DC 20580 (202-326-2889).

SUPPLEMENTARY INFORMATION: The Commission is republishing § 305.20(f) of the Appliance Labeling Rule (16 CFR Part 305) which appeared in the Federal Register on October 23, 2008 (73 FR 63066, 63068), but was inadvertently not printed in the Code of Federal Regulations. In addition, the Commission is correcting text in Appendix D4 to the change the phrase “First Hour Rating” to “Capacity (maximum flow rate); gallons per minute (gpm).” ¹

¹ The Commission last amended Appendix D4 (comparability ranges for instantaneous gas water heaters) on August 29, 2007 (72 FR 49948). The correct capacity descriptor for instantaneous water heaters is maximum flow rate measured in gallons per minute, not ``first hour rating'' as the current Rule indicates.

List of Subjects in 16 CFR Part 305

Advertising, Energy conservation, Household appliances, Labeling, Reporting and recordkeeping requirements.

For the reasons discussed above, the Commission amends part 305 of title 16, Code of Federal Regulations, as follows:

PART 305—RULE CONCERNING DISCLOSURES REGARDING ENERGY CONSUMPTION AND WATER USE OF CERTAIN HOME APPLIANCES AND OTHER PRODUCTS REQUIRED UNDER THE ENERGY POLICY AND CONSERVATION ACT (“APPLIANCE LABELING RULE”)

1. The authority citation for Part 305 continues to read as follows:

Authority: 42 U.S.C. 6294.

2. In § 305.20, paragraph (f) is added to read as follows:

305.20 Paper catalogs and Web sites.

* * * * *

(f) Any manufacturer, distributor, retailer, or private labeler who advertises a covered product that is a ceiling fan in a catalog, from which it may be purchased, shall disclose clearly and conspicuously in such catalog, on each page that lists the covered product, all the information concerning the product required by § 305.13(a)(1).

3. Appendix D4 is revised to read as follows:

APPENDIX D4 TO PART 305—WATER HEATERS—INSTANTANEOUS—GAS

Range Information
Capacity: Capacity (maximum flow rate); gallons per minute (gpm) | Range of estimated annual operating costs (dollars/year): Natural gas ($/year): LOW | Range of estimated annual operating costs (dollars/year): Natural gas ($/year): HIGH | Range of estimated annual operating costs (dollars/year): Propane ($/year): LOW | Range of estimated annual operating costs (dollars/year): Propane ($/year): HIGH
Under 1.00 | 285 | 285 | 479 | 479
1.00 to 2.00 | 280 | 285 | 456 | 471
2.01 to 3.00 | 174 | 268 | 346 | 445
Over 3.00 | 199 | 290 | 301 | 486
* No data submitted.

By direction of the Commission.
Donald S. Clark,
Secretary.

[FR Doc. 2010-27692 Filed 11-2-10; 8:45 am]

BILLING CODE 6750-01-P